NUCLEAR REGULATORY COMMISSION

Advisory Committee on Reactor Safeguards Joint Meeting of the ACRS Subcommittees on Materials and Metallurgy and on Thermal-Hydraulic Phenomena and on Reliability and Probabilistic Risk Assessment; Notice of Meeting

The ACRS Subcommittees on Materials and Metallurgy and on Thermal-Hydraulic Phenomena and on Reliability and Probabilistic Risk Assessment will hold a joint meeting on November 30 and December 1, 2004, Room T-2B3, 11545 Rockville Pike, Rockville, Maryland.

The entire meeting will be open to public attendance. The agenda for the subject meeting shall be as follows:

Tuesday, November 30, 2004-8:30 a.m. until 5 p.m.

Wednesday, December 1, 2004-8:30 a.m. until 12 Noon.

The purpose of this joint Subcommittee meeting is to discuss the PTS technical basis re-evaluation. The revised technical basis document and peer review comments will be discussed during this meeting. Subject to the satisfactory review by the Subcommittees, this matter will be referred to the full Committee for review during the December 2004 ACRS meeting. The purpose of this meeting is to gather information, analyze relevant issues and facts, and formulate proposed positions and actions, as appropriate, for deliberation by the full Committee.

Members of the public desiring to provide oral statements and/or written comments should notify the Designated Federal Official, Dr. Hossein Nourbakhsh (Telephone: 301-415-5622) five days prior to the meeting, if possible, so that appropriate arrangements can be made. Electronic recordings will be permitted during the meeting.

Further information regarding this meeting can be obtained by contacting the Designated Federal Officials between 7:30 a.m. and 5 p.m. (e.t.). Persons planning to attend this meeting are urged to contact the above named individual at least two working days prior to the meeting to be advised of any potential changes to the agenda.

Dated: October 26, 2004.
John H. Flack,
Acting Branch Chief, ACRS/ACNW.

[FR Doc. 04-24380 Filed 11-1-04; 8:45 am]

BILLING CODE 7590-01-P